NATIONAL AERONAUTICS AND SPACE ADMINISTRATION

[Notice: 25-033]

International Space Station Advisory Committee; Charter Renewal

AGENCY: National Aeronautics and Space Administration.

ACTION: Notice of renewal of charter of the International Space Station Advisory Committee.

SUMMARY: Pursuant to sections 14(b)(1) and 9(c) of the Federal Advisory Committee Act (Pub. L. 92-463), and after consultation with the Committee Management Secretariat, General Services Administration, the NASA Administrator has determined that the renewal of the charter of the International Space Station Advisory Committee is in the public interest in connection with the performance of duties imposed on NASA by law. The renewed charter is for a two-year period ending September 27, 2027.

FOR FURTHER INFORMATION CONTACT: Mr. Dennis McSweeney, Designated Federal Officer, ISS Advisory Committee, NASA Headquarters, Washington, DC 20546, via email at dennis.mcsweeney@nasa.gov or by telephone at (202) 358-2012.

Jamie M. Krauk,
Advisory Committee Management Officer, National Aeronautics and Space Administration.

[FR Doc. 2025-16715 Filed 8-29-25; 8:45 am]

BILLING CODE 7510-13-P